DEPARTMENT OF THE INTERIOR

Fish and Wildlife Service

Notice of Intent To Prepare a Comprehensive Conservation Plan and Environmental Assessment for the San Pablo Bay National Wildlife Refuge

AGENCY: Fish and Wildlife Service, Department of the Interior.

ACTION: Notice of intent.

SUMMARY: The U.S. Fish and Wildlife Service (Service) is preparing a Comprehensive Conservation Plan (CCP) and Environmental Assessment (EA) for the San Pablo Bay National Wildlife Refuge (Refuge) located in Solano, Napa and Sonoma Counties of California. This notice advises the public that the Service intends to gather information necessary to prepare a CCP and EA pursuant to the National Wildlife Refuge System Administration Act of 1966, as amended, and the National Environmental Policy Act (NEPA). The public and other agencies are encouraged to participate in the planning process by sending written comments on management actions that the Service should consider. The Service is also furnishing this notice in compliance with the Service CCP policy to obtain suggestions and information on the scope of issues to include in the CCP and EA. Opportunities for public input will be announced throughout the CCP/EA planning and development process.

DATES: To ensure that the Service has adequate time to evaluate and incorporate suggestions and other input into the planning process, comments should be received on or before September 11, 2006.

ADDRESSES: Send written comments or requests to be added to the mailing list to the following address: Winnie Chan, Refuge Planner, San Pablo Bay NWR CCP, San Francisco Bay National Wildlife Refuge Complex, P.O. Box 524, Newark, California 94560. Written comments may also be faxed to (510) 792-5828, or sfbaynwrc@fws.gov.

FOR FURTHER INFORMATION CONTACT: Winnie Chan, Refuge Planner, at (510) 792-0222 or Christy Smith, Refuge Manager, at (707) 769-4200.

SUPPLEMENTARY INFORMATION: The National Wildlife Refuge System Administration Act of 1966, as amended by the National Wildlife Refuge System Improvement Act of 1997, requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, the CCP will identify compatible wildlife-dependent recreational opportunities available to the public. The recreational opportunities that will receive priority consideration are hunting, fishing, wildlife observation and photography, and environmental education and interpretation. The planning process will consider many elements, including habitat and wildlife management, compatible wildlife-dependent recreation, cultural resource protection, desired future conditions, land acquisition, environmental effects, and administrative resources. Public input into this planning process is very important. The CCP will provide other agencies and the public with a clear understanding of the desired conditions for the Refuge and how the Service will implement management strategies.

Comments received will be used to develop goals and objectives, as well as identify key issues evaluated in the NEPA document. All comments received, including names and addresses, will become part of the administrative record and may be made available to the public. Opportunities for public participation will occur throughout the process.

The Service will send Planning Updates to people who are interested in the CCP process. These mailings will provide information on how to participate in the CCP process. Interested Federal, State, and local agencies, organizations, and individuals are invited to provide input. The Service expects to complete the CCP in 2008.

Background

The San Pablo Bay National Wildlife Refuge is located in the cities of Petaluma, Vallejo, Napa and Novato. The 11,000-acre Refuge sits on the northernmost point of the San Francisco Bay Estuary known as the San Pablo Bay portion of the Estuary. The Refuge was initially established “* * * for use as an inviolate sanctuary, or for any other management purpose, for migratory birds” (16 U.S.C. 715d (Migratory Bird Conservation Act)); “* * * particular value in carrying out the national migratory bird management program” (16 U.S.C. 667b (An Act Authorizing the Transfer of Certain Real Property for Wildlife, or other purposes)); and “* * * to conserve (A) fish or wildlife which are listed as endangered species or threatened species * * * or (B) plants” (16 U.S.C. 1534 (Endangered Species Act of 1973)).

The Refuge was established to protect endangered species, and to conserve migratory birds and other wildlife by preserving habitat and open space while providing compatible wildlife-oriented outdoor recreation to the public. While the Refuge was formally established in 1970, lands were not acquired until 1974.

The Service anticipates a draft CCP and EA to be available for public review and comment in 2007.

Doug S. Vandegraft,
Acting Manager, CA/NV Operations, Sacramento, California.

[FR Doc. E6-11915 Filed 7-25-06; 8:45 am]

BILLING CODE 4310-55-P